COMMISSION ON CIVIL RIGHTS

Agenda and Notice of Public Meeting of the South Dakota Advisory Committee

Notice is hereby given, pursuant to the provisions of the rules and regulations of the U.S. Commission on Civil Rights (Commission), and the Federal Advisory Committee Act (FACA), that a briefing meeting of the South Dakota Advisory Committee to the Commission will convene at 10:00 a.m. (CDT) on Wednesday, August 27, 2014, at the United Tribes Technical College-Rapid City Campus, Freedom Hall, 321 Kansas City Street, Rapid City, SD 57701. The purpose of the briefing is to hear from government officials, law enforcement experts, and advocates regarding civil rights issues in South Dakota, specifically to the administration of criminal justice in Rapid City. The briefing will include testimony from invited presenters as well as members of the public. The South Dakota Advisory Committee will hear about experiences, initiatives, programs and concerns with criminal justice in Rapid City.

Members of the public are entitled to submit written comments. The comments must be received in the regional office by Monday, September 29, 2014. Comments may be mailed to the Rocky Mountain Regional Office, U.S. Commission on Civil Rights, 999 18th Street, Suite 1380 South, Denver, CO 80202, faxed to (303) 866-1050, or emailed to Evelyn Bohor at ebohor@usccr.gov. Persons who desire additional information may contact the Rocky Mountain Regional Office at 303-866-1040.

Persons needing accessibility services should contact the Rocky Mountain Regional Office at least 10 working days before the scheduled date of the meeting.

Records generated from this meeting may be inspected and reproduced at the Rocky Mountain Regional Office, as they become available, both before and after the meeting. Persons interested in the work of this advisory committee are advised to go to the Commission's Web site, www.usccr.gov, or to contact the Rocky Mountain Regional Office at the above phone number, email or street address.

The meeting will be conducted pursuant to the provisions of the rules and regulations of the Commission and FACA.

Dated August 5, 2014.
David Mussatt,
Chief, Regional Programs Coordination Unit.

[FR Doc. 2014-18843 Filed 8-8-14; 8:45 am]

BILLING CODE 6335-01-P